FEDERAL COMMUNICATIONS COMMISSION

[DA 02-2664]

Consumer/Disability Telecommunications Advisory Committee

AGENCY: Federal Communications Commission.

ACTION: Notice.

SUMMARY: This document announces the date, time, and agenda for the next meeting of the Consumer/Disability Telecommunications Advisory Committee (hereinafter “the Committee”), whose purpose is to make recommendations to the Commission regarding consumer issues within the jurisdiction of the Commission and to facilitate the participation of consumers (including people with disabilities and underserved populations such as Native Americans and individuals living in rural areas) in proceedings before the Commission.

DATES: The meeting of the Committee will take place on Friday, November 8, 2002, from 9 a.m. to 4:30 p.m.

ADDRESSES: The Committee will meet at the Federal Communications Commission, 445 12th Street SW., Washington, DC 20554, Room TW-C305.

FOR FURTHER INFORMATION CONTACT: Scott Marshall, Designated Federal Officer, Consumer/Disability Telecommunications Advisory Committee, Consumer & Governmental Affairs Bureau, Federal Communications Commission, Room 5A824, 445 12th Street SW., Washington, DC 20554. Telephone (202) 418-2809 (voice) or (202) 418-0179 (TTY); Email: cdtac@fcc.gov.

SUPPLEMENTARY INFORMATION: By Public Notice dated and released October 15, 2002, the Federal Communications Commission announced the next meeting of its Consumer/Disability Telecommunications Advisory Committee. The establishment of the Committee had been announced by Public Notice dated November 30, 2000, 15 FCC Rcd 23798, as published in the Federal Register (65 FR 76265, December 6, 2000). At the November 8, 2002 meeting, The Committee will consider the Commission's proposed rules concerning the Telephone Consumer Protection Act; will receive an update regarding its recommendations concerning the Commission's consumer complaint process and outreach activities, and will receive and consider a report of an ad hoc working group on Sec. 255 of the Telecommunications Act of 1996. The Committee will also receive a report from its chairperson regarding activities since the June meeting and an update on the Committee rechartering process. The Committee will also be updated on the Commission's Biennial Regulatory Review Process. Other working group reports will be received and considered if available. The Committee will make recommendations to the Federal Communications Commission as appropriate, and may also consider other matters within the mandate of its Charter.

Availability of Copies and Electronic Accessibility

A copy of the October 15, 2002 Public Notice is available in alternate formats (Braille, cassette tape, large print or diskette) upon request. It is also posted on the Commission's website at www.fcc.gov/cgb/cdtac. The Committee meeting will be broadcast on the Internet in Real Audio/Real Video format with captioning at www.fcc.gov/cgb/cdtac. The meeting will be sign language interpreted, and realtime transcription and assistive listening devices will also be available. The meeting site is fully accessible to people with disabilities. Copies of meeting agendas and handout materials will also be provided in accessible formats. Meeting minutes will be available for public inspection at the FCC headquarters building and will be posted on the Commission's Web site at www.fcc.gov/cgb/cdtac.

The Committee meeting will be open to the public and interested persons may attend the meeting and communicate their views. Members of the public will have an opportunity to address the Committee on issues of interest to them and the Committee. Written comments for the Committee may also be sent to the Committee's Designated Federal Officer, Scott Marshall. Notices of future meetings of the Committee will be published in the Federal Register.

Federal Communications Commission.
Margaret Egler,
Deputy Bureau Chief, Consumer & Governmental Affairs Bureau.

[FR Doc. 02-26873 Filed 10-21-02; 8:45 am]

BILLING CODE 6712-01-P